DEPARTMENT OF JUSTICE

Notice of Lodging of Consent Decree Pursuant to the Clean Water Act

In accordance with Departmental policy, 28 CFR 50.7, notice is hereby given that a proposed consent decree in United States v. City of Galax, Virginia, Civil Action No. 7:01CV00925, was lodged with the United States District Court for the Western District of Virginia on November 14, 2002.

The consent decree resolves claims pursuant to section 309(e) of the Clean Water Act, 33 U.S.C. 1319(e), for past violations of permit limits for nitrate plus nitrite and total suspended solids, and for failures to monitor stream flow rates. The decree obligates Defendant Galax to pay a civil penalty of $50,000; expend $50,000 over two years to implement supplemental environmental projects consisting of the construction of livestock watering systems, fencing, and other measures to limit agricultural runoff into Chestnut Creek upstream of Galax, Virginia; and operate its sewage pumping stations in a manner designed to eliminate sanitary sewer overflows.

The Department of Justice will receive, for a period of 30 days from the date of this publication, comments relating to the proposed consent decree. Comments should be addressed to the Assistant Attorney General for the Environment and Natural Resources Division, Department of Justice, Washington, DC 20530. Each communication should refer on its face to United States v. City of Galax, Virginia, DOJ #90-5-1-1-07198.

The proposed consent decree may be examined at the office of the United States Attorney for the Western District of Virginia, 105 Franklin Road, SW., Roanoke, VA 24011-2305; and the Region VIII Office of the Environmental Protection Agency, 1650 Arch Street, Philadelphia, PA 19103-2029. A copy of the proposed consent decree may be obtained by faxing a request to Tonia Fleetwood, Department of Justice Consent Decree Library, fax number (202) 616-6584; phone confirmation (202) 514-1547. In requesting a copy, please forward the request and a check in the amount of $14.50 (25 cents per page reproduction cost) payable to the U.S. Treasury, referencing the DOJ Consent Decree Library, United States v. City of Galax, Virginia, DOJ #90-5-1-1-07198, to the first-class mail address listed above.

Robert Brook,
Assistant Section Chief, Environmental Enforcement Section, Environment and Natural Resources Division.

[FR Doc. 02-30798 Filed 12-4-02; 8:45 am]

BILLING CODE 4410-15-M